DEPARTMENT OF JUSTICE

Notice of Lodging of Proposed Consent Decree Under the Comprehensive Environmental Response, Compensation, and Liability Act

On September 29, 2015, the Department of Justice lodged a proposed Consent Decree with the United States District Court for the Central District of California in the lawsuit entitled United States v. Shell Oil Company, Civil Action No. 2:15-cv-07619-R (AGRx).

The United States, on behalf of the U.S. Environmental Protection Agency (“EPA”), filed this lawsuit under CERCLA for performance of response action to address Operable Unit 1 of the Del Amo Superfund Site, and for cost recovery. The Site, the location of a former synthetic rubber plant, is in Los Angeles County, California.

On September 29, 2015, the California Department of Toxic Substances Control (“DTSC”) also filed a complaint against the United States of America and Shell Oil Company under CERCLA for cost recovery with regard to Del Amo Superfund Site Operable Unit 1. California Department of Toxic Substances Control v. United States of America, et al. (C.D. Cal.), Civil Action No. 2:15-cv-07636.

The proposed consent decree would resolve the claims alleged in the complaint of the United States and in the complaint of the DTSC, and provides for the implementation of a remedy that EPA and DTSC will oversee. The Consent Decree requires Shell Oil Company to implement the remedy selected by EPA for Operable Unit 1. EPA's selected remedy for Operable Unit 1, which addresses soil and non-aqueous phase liquid, includes capping and implementation of soil vapor extraction, building engineering controls, in-situ chemical oxidation, and institutional controls. The settlement further provides for Shell Oil Company to pay EPA $1,200,000 for past response costs, and to pay DTSC $63,993.81 for past response costs, and also to pay EPA and DTSC future response costs of overseeing the implementation of the remedial action. The proposed settlement includes the U.S. General Services Administration as a settling federal agency as the successor to the former federal government owners of the plant, and provides that the United States will reimburse Shell Oil Company for a portion of the costs.

The publication of this notice opens a period for public comment on the Consent Decree. Comments should be addressed to the Assistant Attorney General, Environment and Natural Resources Division, and should refer to United States v. Shell Oil Co., D.J. Ref. No. 90-11-2-933/4. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $103.25 (25 cents per page reproduction cost) payable to the United States Treasury. For a paper copy without the exhibits, the cost is $32.50.

Henry S. Friedman,
Assistant Section Chief, Environmental Enforcement Section, Environment and Natural Resources Division.

[FR Doc. 2015-25531 Filed 10-6-15; 8:45 am]

BILLING CODE 4410-15-P